DEPARTMENT OF HEALTH AND HUMAN SERVICES

Administration for Children and Families

[Office of Management and Budget #: 0970-0490]

Proposed Information Collection Activity; Generic Program-Specific Performance Progress Report

AGENCY: Administration for Children and Families, U.S. Department of Health and Human Services.

ACTION: Request for public comments.

SUMMARY: This notice describes the proposal to extend data collection under the Administration for Children and Families (ACF) Generic Program-Specific Performance Progress Report (PPR) (0970-0490). This overarching generic currently allows ACF program offices to collect performance and progress data from recipients and sub-recipients who receive funding from ACF under a grant or cooperative agreement. This generic mechanism provides the opportunity for ACF program offices to tailor requests for performance and progress data to specific funding recipients. There are no proposed changes to the overarching generic.

DATES: Comments due February 27, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: ACF is primarily a grant-making agency that promotes the economic and social well-being of families, children, individuals and communities with partnerships, funding, guidance, training and technical assistance. Prior to the use of this umbrella generic for program-specific PPRs, all ACF discretionary grant and cooperative agreement awards used the standard ACF PPR (#0970-0406) for post award reporting. The standard ACF PPR form requires grantees to only respond to a common set of broad questions, which could result in receipt of only qualitative or incomplete information for some programs. This one-size-fits-all approach did not adequately collect the specific data needed for particular grant programs or allow program offices to assess continuous quality improvement. Different grant programs vary in purpose, target population, and activities. Therefore, a need for program offices to customize performance measurements was identified and the generic program-specific PPR was developed.

ACF program offices have benefited from the ability to create and use a program-specific PPR that is more effective and includes specific data elements that reflects a specific program's indicators, demographics, priorities and objectives.

A generic program-specific PPR that can be tailored for program-specific needs allows program offices to collect useful data in a uniform and systematic manner. The reporting format allows program offices to gather uniform program performance data from each grantee, allowing aggregation at the program level to calculate outputs and outcomes, providing a snapshot and allowing for longitudinal analysis.

Data from a tailored program-specific PPR that demonstrates a program's successes and challenges have been useful for accountability purposes, such as required reports to Congress. Moreover, it has been useful for program management and oversight, such as identifying grantees' technical assistance needs and ensuring compliance with federal and programmatic regulations and policies. To review currently approved PPRs under this generic, see: https://www.reginfo.gov/public/do/PRAICList?ref_nbr=202507-0970-011.

Respondents: ACF funding recipients.

Annual Burden Estimates

The following burden estimates include burden associated with currently approved individual requests that ACF expects will be extended through this extension request and an estimate of burden for potential new requests under this generic. Burden associated with currently approved individual requests has been updated to reflect current estimates for number of respondents, time per response, and reporting cadence. Note that new requests may be submitted during this comment period, which would be included with the extension request in 2026.

Potential New Requests
Instrument | Number of respondents | Annual number of responses per respondent | Average burden hours per response | Annual burden hours
Program Specific PPRs | 900 | 3 | 6 | 16,200

Ongoing Currently Approved Requests
Generic PPR title | Number of respondents | Annual number of responses per respondent | Average burden hours per response | Annual burden hours
Administration for Native Americans (ANA) American Rescue Plan Emergency Language (ARP EL) Progress Report and Post Project Report | 30 | 2 | 0.75 | 45.
Community Economic Development—Planning (CED-P) Grant Recipient Performance Progress Report (PPR) | 31 | 4 | 2 | 248.
Diaper Distribution Demonstration and Research Pilot Quarterly Reporting Requirements | 252 | 4 | 3.11 | 3,136.
Employer Engagement Program Performance Data | 24 | 2 | 5 | 240.
Ethnic Community Self-Help (ECSH) Program Data Indicators | 27 | 2 | 2 | 108.
Family Violence Prevention and Services: Grants to support Culturally Specific Domestic Violence and Sexual Assault (CSDVSA) Programs | 35 | 2 | 10 | 700.
Family Violence Prevention and Services: Grants to support Specialized Services for Abused Parents and Children (SSAPC) | 55 | 2 | 10 | 1,100.
Family Violence Prevention and Services: Grants to the National Domestic Violence Hotline | 2 | 2 | 10 | 40.
Family Violence Prevention and Services: National, Special Issue, and Culturally Specific Resource Centers | 19 | 2 | 8 | 304.
Head Start Collaboration Office Annual Report | 54 | 1 | 4 | 216.
Human Trafficking Youth Prevention Education (HTYPE) Demonstration Grant Program Performance Indicators | 8 | 1 | 6 | 48.
Instructions for the Office of Refugee Resettlement Unaccompanied Children Program Home Study and Post-Release Service Grant Recipient Program Indicators | 25 | 4 | 0.63 | 63.
Microenterprise Development (MED) Program Indicators | 29 | 2 | 2 | 116.
Office of Refugee Resettlement Refugee Family Child Care Microenterprise (RFCCMED) Program Performance Data | 15 | 4 | 2 | 120.
Office of Refugee Resettlement Services to Afghan Survivors of Combat (SASIC) Program Performance Data Point Tool & User Guide | 24 | 1 | 5 | 120.
Preschool Development Grant Birth through Five (PDG B-5) Renewal Grant Annual Performance Progress Report—2025 Revision | 28 | 1 | 8 | 224.
Refugee Agricultural Partnership Program (RAPP) Indicators | 20 | 2 | 2.3 | 92.
Refugee Individual Development Accounts (IDA) Program Indicators | 9 | 4 | 6 | 624.
IDA Program Indicators—New Cohort | 13 | 2 | 3 | 78.
Refugee Resettlement Refugee Career Pathways (RCP) Program Performance Data | 42 | 2 | 5 | 420.
Regional Partnership Grant Program Semi Annual ACF Performance Progress Report | 23 | 2 | 16.5 | 759.
Support for Trauma-Affected Refugees (STAR) Annual Program Data Points (PDP) Tool and User Guide | 28 | 1 | 3 | 84.
Wilson-Fish TANF Coordination Project Performance Report Part A and B | 7 | 2 | 6 | 84
| Total Respondents: 800 | Average # Annual Responses: 2.22 | Average Burden Hours per Response: 5.23 | Total Ongoing Annual Burden Hours: 8,969.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 CFR 75.342; 45 CFR 75.301, Pub L. 111-352, section 12.

Mary C. Jones,
ACF/OPRE Certifying Officer.

[FR Doc. 2025-23908 Filed 12-23-25; 8:45 am]

BILLING CODE 4184-88-P